DEPARTMENT OF COMMERCE

National Oceanic and Atmospheric Administration

RIN 0648-XA261

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration, and that the activities authorized under this EFP would be consistent with the goals and objectives of the Monkfish Fishery Management Plan (FMP). However, further review and consultation may be necessary before a final determination is made to issue an EFP. This would grant exemptions from monkfish days-at-sea (DAS) possession limits.

Regulations under the Magnuson-Stevens Fishery Conservation and Management Act require publication of this notification to provide interested parties the opportunity to comment on applications for proposed EFPs.

DATES: Comments must be received on or before April 8, 2011.

ADDRESSES: You may submit written comments by any of the following methods:

• E-mail: nero.efp@noaa.gov. Include in the subject line “Comments on UMES Monkfish RSA EFP.”

• Mail: Patricia A. Kurkul, Regional Administrator, NMFS, NE Regional Office, 55 Great Republic Drive, Gloucester, MA 01930. Mark the outside of the envelope “Comments on UMES monkfish RSA EFP.”

• Fax: (978) 281-9135.

FOR FURTHER INFORMATION CONTACT: Jason Berthiaume, Fishery Management Specialist, 978-281-9177.

SUPPLEMENTARY INFORMATION: An application for an EFP was submitted by the University of Maryland Eastern Shore (UMES) on February 18, 2011, in support of a project preliminarily selected under the New England and Mid-Atlantic Fishery Management Councils' Monkfish RSA Program. The project proposes to investigate the influence of temperature on monkfish distribution and abundance. This EFP would grant an exemption from monkfish possession limits to facilitate compensation fishing to fund this research project. While conducting RSA compensation trips, participating vessels would use gillnets that are 12-inch (30.5 cm) stretch mesh with a 3.5-inch (30.5 cm) diameter gauge web that is 12 meshes deep. The nets do not exceed 300 ft (91.4 m) in length. Average soak times differ between vessels, with a range of 36 to 72 hours. Each vessel would receive two temperature and depth loggers to attach to gillnets during RSA compensation fishing trips. The loggers would collect temperature and depth at intervals of 1 hour, and would be downloaded approximately every 2 months. Catch data (number and size of monkfish) from panels with probes would be recorded by collaborating fishermen, along with information on location, depth fished, water currents, and lunar cycle. UMES plans to collect histological samples on board the fishing vessels from a subset of trips for analysis of reproductive condition. Weights and length measurements would be taken each trip from a minimum of 25 randomly selected monkfish from the nets with attached temperature probes to gain information about fish distribution.

Compensation fishing for this research would occur from May 2011 through April 2012, with a possible extension through April 2013, as authorized by the Monkfish FMP and 50 CFR 648.92(c)(1)(v). Pending a final award by NOAA Grants, UMES has been awarded 96 monkfish DAS under the Monkfish RSA Program. To facilitate compensation fishing, the applicant has requested exemptions from monkfish DAS possession limits at §§ 648.94(b)(1) and (2). The applicant has stated that these exemptions would provide vessels the flexibility they need to generate sufficient income to meet projected costs of the research activity, while minimizing operating expenses. Based on the preliminary award of 96 DAS and projected monkfish catch rates, this would allow a total catch of 345,600 lb (156,762 kg) of whole monkfish (104,097 lb (47,218 kg) tail weight). Operating under this total landings cap, compensation fishing would continue until the goal of 345,600 lb (156,762 kg) of whole monkfish is caught, or until the awarded DAS have been fully utilized, whichever occurs first. Aside from these exemptions, fishing activity would be conducted under normal commercial practices. NMFS is considering imposing a cap on monkfish DAS possession limit exemptions for vessels operating under the monkfish RSA program due to potential effect that such exemptions may have on monkfish market price and catch rates for non-RSA vessels.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 21, 2011.
Margo Schulze-Haugen,
Acting Director, Office of Sustainable Fisheries, National Marine Fisheries Service.

[FR Doc. 2011-7020 Filed 3-23-11; 8:45 am]

BILLING CODE 3510-22-P